DEPARTMENT OF TRANSPORTATION

Federal Aviation Administration

14 CFR Part 39

[Docket No. FAA-2023-1996; Project Identifier AD-2022-01361-E; Amendment 39-22570; AD 2023-20-11]

RIN 2120-AA64

Airworthiness Directives; International Aero Engines, LLC Engines

AGENCY: Federal Aviation Administration (FAA), DOT.

ACTION: Final rule; request for comment; correction.

SUMMARY: The FAA is correcting an airworthiness directive (AD) that was published in the Federal Register. That AD applies to certain International Aero Engines, LLC (IAE LLC) Model PW1124G1-JM, PW1127G-JM, PW1127GA-JM, PW1129G-JM, PW1130G-JM, PW1133G-JM, and PW1133GA-JM engines. As published, a part number was inadvertently excluded in the regulatory text of the AD. This document corrects that error. In all other respects, the original document remains the same.

DATES: This correction is effective November 1, 2023. The effective date of AD 2023-20-11 remains November 1, 2023.

The Director of the Federal Register approved the incorporation by reference of a certain publication listed in this AD as of November 1, 2023 (88 FR 71466, October 17, 2023).

The date for submitting comments on AD 2023-20-11 remains December 1, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1996; or in person at Docket Operations between 9 a.m. and 5 p.m., Monday through Friday, except Federal holidays. The AD docket contains this final rule; request for comment; correction, any comments received, and other information. The street address for Docket Operations is listed above.

Material Incorporated by Reference:

• For Pratt & Whitney service information identified in this final rule, contact International Aero Engines, LLC, 400 Main Street, East Hartford, CT 06118; phone: (860) 565-0140; email: help24@prattwhitney.com; website: connect.prattwhitney.com.

• You may view this referenced service information at the FAA, Airworthiness Products Section, Operational Safety Branch 1200 District Avenue, Burlington, MA 01803. For information on the availability of this material at the FAA, call (817) 222-5110. It is also available at regulations.gov under Docket No. FAA-2023-1996.

FOR FURTHER INFORMATION CONTACT: Mark Taylor, Aviation Safety Engineer, FAA, 2200 South 216th Street, Des Moines, WA 98198; phone: (781) 238-7229; email: mark.taylor@faa.gov.

SUPPLEMENTARY INFORMATION:

Comments Invited

The FAA invites you to send any written data, views, or arguments about this final rule. Send your comments to an address listed under ADDRESSES. Include “Docket No. FAA-2023-1996 and Project Identifier AD-2022-01361-E” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mark Taylor, Aviation Safety Engineer, FAA, 2200 South 216th Street, Des Moines, WA 98198. Any commentary that the FAA receives which is not specifically designated as CBI will be placed in the public docket for this rulemaking.

Background

AD 2023-20-11, Amendment 39-22570 (88 FR 71466, October 17, 2023), requires replacement of the high-pressure compressor (HPC) rear hub with a part eligible for installation for certain IAE LLC Model PW1124G1-JM, PW1127G-JM, PW1127GA-JM, PW1129G-JM, PW1130G-JM, PW1133G-JM, and PW1133GA-JM engines.

Need for Correction

As published, paragraph (c) in the regulatory text of AD 2023-20-11 is incorrect. Paragraph (c) of AD 2023-20-11 refers to part number “30G4008.” The correct reference is part number “30G4008 or 30G8208.”

Related Service Information Under 1 CFR Part 51

The FAA reviewed Pratt & Whitney Service Bulletin PW1000G-C-72-00-0209-00A-930A-D, Issue No: 002, dated June 20, 2023, which provides the list of affected serial numbers for the HPC rear hub.

This service information is reasonably available because the interested parties have access to it through their normal course of business or by the means identified in ADDRESSES.

Correction of Publication

This document corrects an error and correctly adds the AD as an amendment to 14 CFR 39.13. Although no other part of the preamble or regulatory information has been corrected, the FAA is publishing the entire rule in the Federal Register.

The effective date of this AD remains November 1, 2023.

Since this action only corrects the mention of an affected part number, it has no adverse economic impact and imposes no additional burden on any person. Therefore, the FAA has determined that notice and public comment procedures are unnecessary.

List of Subjects in 14 CFR Part 39

Air transportation, Aircraft, Aviation safety, Incorporation by reference, Safety.

Adoption of the Amendment

Accordingly, pursuant to the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following airworthiness directive:

2023-20-11 International Aero Engines, LLC: Amendment 39-22570; Docket No. FAA-2023-1996; Project Identifier AD-2022-01361-E.

(a) Effective Date

This airworthiness directive (AD) is effective November 1, 2023.

(b) Affected ADs

None.

(c) Applicability

This AD applies to International Aero Engines, LLC Model PW1124G1-JM, PW1127G-JM, PW1127GA-JM, PW1129G-JM, PW1130G-JM, PW1133G-JM, and PW1133GA-JM engines with an installed high-pressure compressor (HPC) rear hub, part number 30G4008 or 30G8208, with a serial number (S/N) listed in Table 2 or Table 3 of Pratt & Whitney Service Bulletin PW1000G-C-72-00-0209-00A-930A-D, Issue No: 002, dated June 20, 2023 (PW1000G-C-72-00-0209-00A-930A-D, Issue No: 002).

(d) Subject

Joint Aircraft System Component (JASC) Code 7230, Turbine Engine Compressor Section.

(e) Unsafe Condition

This AD was prompted by a manufacturer investigation which revealed that Maintenance, Repair, and Overhaul shops were misinterpreting accepted knife edge coating wear limits. The FAA is issuing this AD to prevent heat-induced cracking at the forward and aft knife edge seals and uncontained separation of the HPC rear hub. The unsafe condition, if not addressed, could result in uncontained debris release, damage to the engine, damage to the airplane, in-flight shutdown, and loss of the airplane.

(f) Compliance

Comply with this AD within the compliance times specified, unless already done.

(g) Required Actions

At the next engine shop visit after the effective date of this AD, replace the HPC rear hub with a part eligible for installation.

(h) Definitions

(1) For the purpose of this AD, a “part eligible for installation” is:

(i) Any HPC rear hub with an S/N that does not appear in Table 2 or Table 3 of PW1000G-C-72-00-0209-00A-930A-D, Issue No: 002; or

(ii) Any HPC rear hub that has been serviced in accordance with Pratt & Whitney Service Bulletin PW1000G-C-72-00-0209-00A-930A-D (any revision).

(2) For the purpose of this AD, an “engine shop visit” is the induction of an engine into the shop for maintenance involving the separation of major mating engine flange H. The separation of engine flanges solely for the purpose of transportation without subsequent engine maintenance does not constitute an engine shop visit.

(i) Credit for Previous Actions

You may take credit for the actions required by paragraph (g) of this AD if you performed those actions before the effective date of this AD using Pratt & Whitney Service Bulletin PW1000G-C-72-00-0209-00A-930A-D, Issue No: 001, dated September 13, 2022.

(j) Alternative Methods of Compliance (AMOCs)

(1) The Manager, AIR-520 Continued Operational Safety Branch, FAA, has the authority to approve AMOCs for this AD, if requested using the procedures found in 14 CFR 39.19. In accordance with 14 CFR 39.19, send your request to your principal inspector or local Flight Standards District Office, as appropriate. If sending information directly to the manager of the AIR-520 Continued Operational Safety Branch, send it to the attention of the person identified in paragraph (k) of this AD and email to: ANE-AD-AMOC@faa.gov.

(2) Before using any approved AMOC, notify your appropriate principal inspector, or lacking a principal inspector, the manager of the local flight standards district office/certificate holding district office.

(k) Related Information

For more information about this AD, contact Mark Taylor, Aviation Safety Engineer, FAA, 2200 South 216th Street, Des Moines, WA 98198; phone: (781) 238-7229; email: mark.taylor@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Pratt & Whitney Service Bulletin PW1000G-C-72-00-0209-00A-930A-D, Issue No: 002, dated June 20, 2023.

(ii) [Reserved]

(3) For Pratt & Whitney service information identified in this AD, contact International Aero Engines LLC, 400 Main Street, East Hartford, CT 06118; phone: (860) 565-0140; email: help24@prattwhitney.com; website: connect.prattwhitney.com.

(4) You may view this service information at the FAA, Airworthiness Products Section, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email: fr.inspection@nara.gov.

Issued on October 25, 2023.
Caitlin Locke,
Director, Compliance & Airworthiness Division, Aircraft Certification Service.

[FR Doc. 2023-23929 Filed 10-26-23; 11:15 am]

BILLING CODE 4910-13-P